DEPARTMENT OF TRANSPORTATION

Federal Aviation Administration

14 CFR Part 71

[Docket No. FAA-2010-0367; Airspace Docket No. 10-AWA-2]

RIN 2120-AA66

Modification of Class C Airspace; Beale Air Force Base, CA

AGENCY: Federal Aviation Administration (FAA), DOT.

ACTION: Final rule.

SUMMARY: This action modifies the legal description of the Beale Air Force Base (AFB), CA, Class C airspace area by allowing the hours of operation to be announced in advance by a Notice to Airmen (NOTAM). The effective hours of the Beale AFB Class C airspace area will be consistent with the actual hours of operation of the Beale AFB Airport Traffic Control Tower (ATCT).

DATES: Effective date 0901 UTC, June 18, 2010. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

The Beale AFB ATCT has reduced its hours of operation. During the times that Beale ATCT is not operational, Class C ATC Services are not available and the airspace reverts to Class E airspace. A requirement for Class C airspace is an operational ATCT. During the times that Beale ATCT is closed, Class C air traffic services are not available. Therefore, there is a need to publish the effective hours of operation for the Beale AFB Class C airspace area to coincide with those times that Class C ATC services are available. The Beale AFB Class C airspace area remains an essential safety measure in support of the ongoing airport operational requirements.

The Rule

This action amends Title 14 Code of Federal Regulations (CFR) part 71 by modifying the legal description of the Beale AFB, CA, Class C airspace area. The Beale AFB Class C airspace area is designated effective during the specific dates and times established in advance by NOTAM. The effective days and times will thereafter be continuously published in the Airport/Facility Directory, in concert with current Beale AFB ATCT operating hours. During the times that Beale ATCT is not operational, the airspace reverts to Class E airspace.

Class C Airspace areas are published in paragraph 4000 of FAA Order 7400.9T signed August 27, 2009, and effective September 15, 2009, which is incorporated by reference in 14 CFR 71.1. The Class C airspace listed in this document will be published subsequently in the Order.

In consideration of the need to change the Beale AFB Class C airspace effective hours of operation to be consistent with the actual operating hours of the Beale AFB ATCT, and conform with FAA regulations for Class C airspace, the FAA finds good cause, pursuant to U.S.C. 553(d), for making this amendment effective in less than 30 days in order to promote the safe and efficient handling of air traffic in the area.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it modifies Class C airspace for Beale AFB, CA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9T, Airspace Designations and Reporting Points, signed August 27, 2009, and effective September 15, 2009, is amended as follows:

Paragraph 4000 Subpart C—Class C Airspace.

* * * * *

AWP CA C Beale AFB, CA [Modified]

Beale AFB, CA

(Lat. 39°08′10″ N., long. 121°26′12″ W.)

That airspace extending upward from the surface to and including 4,100 feet MSL within a 5-mile radius of Beale AFB, and that airspace extending upward from 1,600 feet MSL to 4,100 feet MSL within a 10-mile radius of Beale AFB from the 127° bearing from the airport clockwise to the 007° bearing from the airport, and that airspace extending upward from 2,600 feet MSL to 4,100 feet MSL within a 10-mile radius of the airport from the 007° bearing from the airport clockwise to the 127° bearing from the airport. This Class C airspace area is effective during the specific dates and times established in advance by a Notice to Airmen. The effective date and time will thereafter be continuously published in the Airport/Facility Directory.

Issued in Washington, DC, May 25, 2010.
Edith V. Parish,
Manager, Airspace and Rules Group.

[FR Doc. 2010-13137 Filed 6-1-10; 8:45 am]

BILLING CODE 4910-13-P